NATIONAL SCIENCE FOUNDATION

Advisory Committee for Computer and Information Science and Engineering; Notice of Meeting

In accordance with the Federal Advisory Committee Act (Pub. L. 92-463, as amended), the National Science Foundation (NSF) announces the following meeting:

Name and Committee Code: Advisory Committee for Computer and Information Science and Engineering (CISE) (1115).

Date and Time: December 2, 2020, 11:00 a.m. to 5:00 p.m.; December 3, 2020, 11:00 a.m. to 5:00 p.m.

Place: Virtual meeting attendance only; To attend the virtual meeting, please send your request for the virtual meeting link to the following email: cmessam@nsf.gov.

Type of Meeting: Open.

Contact Person: KaJuana Mayberry, National Science Foundation, 2415 Eisenhower Avenue, Alexandria, VA 22314; Telephone: 703-292-8900; email: kmayberr@nsf.gov.

Purpose of Meeting: To advise NSF on the impact of its policies, programs and activities in support of CISE research, education, and research infrastructure. To provide advice to the NSF Assistant Director for CISE on issues related to long-range planning, and to form ad hoc subcommittees and working groups to carry out needed studies and tasks.

Agenda

• NSF and CISE updates

• CISE Future Visions

• Breakout discussions on Partnerships and CISE Graduate School Enrollments

• Joint Session with the Social, Behavioral, and Economic Sciences Advisory Committee

Dated: November 3, 2020.
Crystal Robinson,
Committee Management Officer.

[FR Doc. 2020-24711 Filed 11-5-20; 8:45 am]

BILLING CODE 7555-01-P